DEPARTMENT OF AGRICULTURE

Animal and Plant Health Inspection Service

[Docket No. APHIS-2019-0017]

Availability of an Environmental Assessment and Finding of No Significant Impact for the Release of Cheilosia urbana for Biological Control of Invasive Hawkweeds

AGENCY: Animal and Plant Health Inspection Service, USDA.

ACTION: Notice.

SUMMARY: We are advising the public that we have prepared an environmental assessment and finding of no significant impact relative to the release of the hoverfly Cheilosia urbana for the biological control of hawkweeds (Pilosella species), a significant invasive weed, within the contiguous United States. Based on our finding of no significant impact, we have determined that an environmental impact statement need not be prepared.

FOR FURTHER INFORMATION CONTACT: Dr. Colin D. Stewart, Assistant Director, Pests, Pathogens, and Biocontrol Permits, Permitting and Compliance Coordination, PPQ, APHIS, 4700 River Road, Unit 133, Riverdale, MD 20737-1231; (301) 851-2327; email: Colin.Stewart@usda.gov.

SUPPLEMENTARY INFORMATION: Hawkweeds are invasive weeds of moist pastures, forest meadows, and mountain rangelands with a moderate amount of moisture. Habitats most vulnerable to invasion include human-disturbed sites, such as roadsides and hayfields, and abandoned farmland. The following hawkweeds are considered noxious in many western States and are currently targets for biological control: Pilosella flagellaris (whiplash hawkweed), Pilosella floribunda (king devil hawkweed), Pilosella glomerata (queen devil or yellow devil hawkweed), Pilosella officinarum (mouse-ear hawkweed), and Pilosella piloselloides (tall hawkweed).

Cheilosia urbana is a very common and widespread hoverfly in Europe. The fly's potential range in North America is expected to match much of the distributions of the targeted Pilosella (hawkweed) species that occur in the northwestern United States and northeastern United States, including southwestern and southeastern Canada. Permitting the release of Cheilosia urbana is necessary to reduce the severity of invasive hawkweed infestations and economic losses since other alternatives are not effective or feasible.

On May 28, 2019, we published in the Federal Register (84 FR 24463, Docket No. APHIS-2019-0017) a notice ¹ in which we announced the availability, for public review and comment, of an environmental assessment (EA) that examined the potential environmental impacts associated with the release of Cheilosia urbana for the biological control of invasive hawkweeds within the contiguous United States.

¹ To view the notice, supporting documents, and the comments we received, go to http://www.regulations.gov/#!docketDetail;D=APHIS-2019-0017.

We solicited comments on the EA for 30 days ending June 27, 2019. We received eight comments by that date. Six of those comments were in favor of the release of the biological control agents. One comment was a general comment against the Animal and Plant Health Inspection Service (APHIS) but raised no substantive issues. One comment raised questions regarding impacts on native hawkweeds. This last comment is addressed in Appendix 6 of the final EA.

In this document, we are advising the public of our finding of no significant impact (FONSI) regarding the release of Cheilosia urbana for the biological control of invasive hawkweeds within the contiguous United States. The finding, which is based on the EA, reflects our determination that release of the Cheilosia urbana will not have a significant impact on the quality of the human environment. Concurrent with this announcement, we will issue a permit for the release of Cheilosia urbana for the biological control of invasive hawkweeds.

The EA and FONSI may be viewed on the Regulations.gov website (see footnote 1). Copies of the EA and FONSI are also available for public inspection at USDA, Room 1141, South Building, 14th Street and Independence Avenue SW, Washington, DC, between 8 a.m. and 4:30 p.m., Monday through Friday, except holidays. Persons wishing to inspect copies are requested to call ahead on (202) 799-7039 to facilitate entry into the reading room. In addition, copies may be obtained by calling or writing to the individual listed under FOR FURTHER INFORMATION CONTACT.

The EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 17th day of September 2019.
Kevin Shea,
Administrator, Animal and Plant Health Inspection Service.

[FR Doc. 2019-20583 Filed 9-23-19; 8:45 am]

BILLING CODE 3410-34-P